ENVIRONMENTAL PROTECTION AGENCY

[FRL-6860-6]

Project XL Draft Final Project Agreement: State of Pennsylvania Department of Environmental Protection (PADEP) Coal Remining and Reclamation XL Project

AGENCY: Environmental Protection Agency (EPA).

ACTION: Notice of availability.

SUMMARY: EPA is requesting comments on a draft Project XL Final Project Agreement (FPA) for the State of Pennsylvania Department of Environmental Protection (PADEP) Coal Remining and Reclamation XL Project (hereafter “Coal Remining and Reclamation”). The FPA is a voluntary agreement developed collaboratively by PADEP and the EPA. Project XL, announced in the Federal Register on May 23, 1995 (60 FR 27282), gives regulated entities the opportunity to develop alternative strategies that will replace or modify specific regulatory or procedural requirements on the condition that they produce greater environmental benefits.

The Pennsylvania Department of Environmental Protection (PADEP) has proposed a project aimed at improving overall in-stream water quality by reducing acid mine drainage (AMD) and reclaiming scarred lands resulting from abandoned coal mines in Pennsylvania. Under this project, PADEP will explore a new approach to encourage the remining and reclamation of abandoned coal mine sites and provide environmentally responsible incentives for potential reminers.

The proposed approach would be based on compliance with in-stream pollutant concentration limits and implementation of best management practices (“BMPs”), instead of National Pollutant Discharge Elimination System (“NPDES”) numeric effluent limitations measured at individual discharge points. The project will collect data to compare in-stream pollutant concentrations versus the loading from individual discharge points and provide for the evaluation of the performance of BMPs and this alternate permitting strategy in PADEP's efforts to address AMD. This set of BMPs has been used in many successful remining projects in Pennsylvania to prevent acid mine drainage and reclaim lands that have been harmed by past mining practices. The proposed XL project would provide for a test of this approach in up to eight watersheds with significant AMD pollution.

DATES: The period for submission of comments ends on September 13, 2000.

ADDRESSEES: All comments on the draft Final Project Agreement should be sent to: Steven Donohue, EPA Region III, 1650 Arch Street, Philadelphia, PA 19103-2029. Comments may also be faxed to Mr. Donohue at (215) 814-2783. Comments may also be received via electronic mail sent to: donohue.steve@epa.gov.

FOR FURTHER INFORMATION CONTACT: To obtain a copy of the draft Final Project Agreement or a Fact Sheet, contact: Steven Donohue, EPA Region III, 1650 Arch Street, Philadelphia, Pennsylvania 19103-2029, or Ted Cochin, Office of Environmental Policy Innovation, U.S. EPA, 1200 Pennsylvania Avenue NW (1802), Washington, DC 20460. The FPA and related documents are also available via the Internet at the following location: http://www.epa.gov/ProjectXL. Questions to EPA regarding the documents can be directed to Steven Donohue at (215) 814-3215 or Ted Cochin at (202) 260-0880. To be included on the Coal Remining and Reclamation Project XL mailing list for information about future public meetings, XL progress reports and other mailings from PADEP on the XL project, contact Michael Smith, District Mining Manager, Hawk Run District Mining Office, Empire Road, P.O. Box 209, Hawk Run, Pennsylvania 16840-0209. For information on all other aspects of the XL Program contact Christopher Knopes at the following address: Office of Policy, Economics and Innovation, United States Environmental Protection Agency, 1200 Pennsylvania Avenue NW (1802), Washington, DC 20460. Additional information on Project XL, including documents referenced in this notice, other EPA policy documents related to Project XL, regional XL contacts, application information, and descriptions of existing XL projects and proposals, is available via the Internet at http://www.epa.gov/ProjectXL.

Dated: August 24, 2000.
Elizabeth A. Shaw,
Director, Office of Environmental Policy Innovation.

[FR Doc. 00-22159 Filed 8-29-00; 8:45 am]

BILLING CODE 6560-50-P